DEPARTMENT OF TRANSPORTATION

Federal Aviation Administration

14 CFR Part 39

[Docket No. FAA-2009-0525; Directorate Identifier 2009-NM-027-AD]

RIN 2120-AA64

Airworthiness Directives; Bombardier Model CL-600-2B19 (Regional Jet Series 100 & 440) Airplanes

AGENCY: Federal Aviation Administration (FAA), DOT.

ACTION: Supplemental notice of proposed rulemaking (NPRM); reopening of comment period.

SUMMARY: We are revising an earlier NPRM for the products listed above. This action revises the earlier NPRM by expanding the scope. This proposed AD results from mandatory continuing airworthiness information (MCAI) originated by an aviation authority of another country to identify and correct an unsafe condition on an aviation product. The MCAI describes the unsafe condition as:

AD CF-2002-12 [which corresponds to FAA AD 2003-04-21, amendment 39-13070] mandated installation of revised overwing emergency exit placards showing that the exit door should be opened and disposed from a seated position. However, it was later discovered that the new placards illustrated an incorrect hand position for removal of the exit upper handle cover. These incorrect instructions could cause difficulty or delay when opening the overwing emergency exit.

As a result, the timely and safe evacuation of passengers and crew may be impeded. The proposed AD would require actions that are intended to address the unsafe condition described in the MCAI.

DATES: We must receive comments on this proposed AD by January 19, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Bombardier, Inc., 400 Côte-Vertu Road West, Dorval, Québec H4S 1Y9, Canada; telephone 514-855-5000; fax 514-855-7401; e-mail thd.crj@aero.bombardier.com; Internet http://www.bombardier.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Christopher Alfano, Aerospace Engineer, Airframe and Mechanical Systems Branch, ANE-171, FAA, New York Aircraft Certification Office, 1600 Stewart Avenue, Suite 410, Westbury, New York 11590; telephone (516) 228-7340; fax (516) 794-5531.

SUPPLEMENTARY INFORMATION:

Comments Invited

We invite you to send any written relevant data, views, or arguments about this proposed AD. Send your comments to an address listed under the ADDRESSES section. Include “Docket No. FAA-2009-0525; Directorate Identifier 2009-NM-027-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We proposed to amend 14 CFR part 39 with an earlier NPRM for the specified products, which was published in the Federal Register on June 10, 2009 (74 FR 27474). That earlier NPRM proposed to require actions intended to address the unsafe condition for the products listed above.

Since that NPRM was issued, we have revised the applicability to include all Bombardier Model CL-600-2B19 (Regional Jet Series 100 & 440) airplanes with serial numbers 7003 and subsequent because those serial numbers may have incorrect placards.

Comments

We have considered the following comments received on the earlier NPRM.

Support for the NPRM

Robert Edward Briggs, a private citizen, and Mesa Air support the compliance times in the NPRM. Mr. Briggs states that Bombardier has a 26-week lead time on the new placards, so the compliance time should remain at 24 months from the effective date of the AD. Mesa Air states that it supports the 24-month compliance time because of the 26-week lead time, and because of the requirement to revise and replace the PAX (passenger) briefing cards.

Request To Withdraw NPRM

Rich Rupslauskas, a private citizen, requests that we withdraw the NPRM. Mr. Rupslauskas asserts that the change depicted in the new placard is not necessary and does nothing to enhance safety. The commenter supports his request by having asked four different people to identify the difference between the old and the new placards and they were unable to do so. The commenter asserts that if there was a problem with the placard, it would have already been discovered through training, maintenance, evacuation testing, and actual evacuations.

We do not agree with the commenter's request to withdraw the proposed AD. We find the commenter's sample size too small to constitute a representative statistical sample with which to determine an adequate level of safety. The illustration in the new placard is correct. 14 CFR 25.811(e)(1) requires that “The location of the operating handle and instructions for opening exits from the inside of the airplane must be shown in the following manner: (1) Each passenger emergency exit must have, on or near the exit, a marking that is readable from a distance of 30 inches * * *” Incorrect instructions could cause difficulty or delay, especially to persons who are less familiar with the airplane emergency exit door openings. We have not changed the supplemental NPRM in this regard.

Request To Address the Requirements of AD 2003-04-21

Comair Inc. states that AD 2003-04-21 requires actions to be accomplished in accordance with Bombardier Alert Service Bulletin A601R-11-077, Revision A, dated December 11, 2001. That AD required installing a new overwing exit placard, and relocates two other placards: The no-baggage placard and the door weight placard. (The no-baggage placards are the placards that illustrate no baggage, and are identified in Bombardier Service Bulletin as “Placard No Baggage.”) Comair states that this NPRM requires compliance with Bombardier Service Bulletin 601R-11-088, Revision A, dated March 24, 2009. Comair states that Revision A of the service bulletin addresses only the latest overwing exit placard, and does not address moving the other two placards.

We infer that the commenter is asking for clarification regarding the requirements of this supplemental NPRM for the door weight placards and the no-baggage placards. We have revised paragraph (f) of this supplemental NPRM to clarify that the restated requirements include moving the door weight placards and no-baggage placards.

Request To Shorten Compliance Time

Comair requests that we revise the NPRM to shorten the 24-month compliance time to 9 months. Comair states that the compliance time appears to be based on Canadian Airworthiness Directive CF-2009-02, which concurs with the recommended interval specified in Bombardier Service Bulletin 601R-11-088, Revision `A,' dated March 24, 2009. Comair states that the 24-month compliance time seems excessive based on the simplicity of the required task. Comair states that nine months should be sufficient to procure parts, write work instructions, and comply with the service bulletin. Comair estimates that one-third of the U.S.-registered fleet is already in compliance.

We disagree with the request to reduce the compliance time from 24 months to 9 months. The proposed compliance time of 24 months was determined to be appropriate in consideration of the safety implications, the average utilization rate of the affected fleet, the practical aspects of an orderly inspection of the fleet during regular maintenance periods, and the availability of required modification parts. We have not changed the AD in this regard.

Request for Credit for Previously Issued AMOCs

Comair requests that we revise the NPRM to allow credit for placards installed according to a previously given AMOC. Comair writes that it received an AMOC, dated December 14, 2007, which allowed it to install overwing exit placards, part numbers S8388-1 and S8389-1, that are specified in Bombardier Service Bulletin 601R-11-088, Revision `A,' dated March 24, 2009. Comair states that it completed installing these placards on its entire fleet three months before the initial release of the service bulletin.

We agree with the commenter's request. We have revised paragraph (j)(1) of this supplemental NPRM to allow credit for placards installed in accordance with previously issued AMOCs to AD 2003-04-21 issued by the NYACO on December 14, 2007, allowing the installation of the new overwing exit placards, part numbers S8388-1 and S8389-1. These are the same part numbers installed using Bombardier Service Bulletin 601R-11-088, Revision A, dated March 24, 2009.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Certain changes described above expand the scope of the earlier NPRM. As a result, we have determined that it is necessary to reopen the comment period to provide additional opportunity for the public to comment on this proposed AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 664 products of U.S. registry.

We estimate that it would take about 1 work-hour per product to comply with the new basic requirements of this proposed AD. The average labor rate is $80 per work-hour. Required parts would cost about $128 per product. Where the service information lists required parts costs that are covered under warranty, we have assumed that there will be no charge for these costs. As we do not control warranty coverage for affected parties, some parties may incur costs higher than estimated here. Based on these figures, we estimate the cost of the proposed AD on U.S. operators to be $138,112, or $208 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13070 (68 FR 9509, February 28, 2003), corrected at 68 FR 14309, March 25, 2003, and adding the following new AD:

Bombardier, Inc. (Formerly Canadair): Docket No. FAA-2009-0525; Directorate Identifier 2009-NM-027-AD.

Comments Due Date

(a) We must receive comments by January 19, 2010.

Affected ADs

(b) This AD supersedes AD 2003-04-21 R1, Amendment 39-13070.

Applicability

(c) This AD applies to Bombardier Model CL-600-2B19 (Regional Jet Series 100 & 440) airplanes, certificated in any category, serial numbers 7003 and subsequent.

Subject

(d) Air Transport Association (ATA) of America Code 11: Placards and markings.

Reason

(e) The mandatory continuing airworthiness information (MCAI) states:

AD CF-2002-12 [which corresponds to FAA AD 2003-04-21, amendment 39-13070] mandated installation of revised overwing emergency exit placards showing that the exit door should be opened and disposed from a seated position. However, it was later discovered that the new placards illustrated an incorrect hand position for removal of the exit upper handle cover. These incorrect instructions could cause difficulty or delay when opening the overwing emergency exit.

As a result, the timely and safe evacuation of passengers and crew may be impeded. The required action includes replacing the incorrect placards with revised placards.

Restatement of Certain Requirements of AD 2003-04-21 R1

(f) Unless already done, for airplanes identified in Table 1 of this AD, within 12 months after April 4, 2003 (the effective date of AD 2003-04-21 R1), replace the door weight placards, and no-baggage placards with new placards (including cleaning of the applicable surface), as applicable, per Bombardier Alert Service Bulletin A601R-11-077, Revision A, dated December 11, 2001, excluding Service Bulletin Comment Sheet-Facsimile Reply Sheet and CRJ 100/200 Service Bulletin Compliance Facsimile Reply Sheet.

Table 1—Serial Numbers
Serial Nos.
7003 through 7434 inclusive.
7436 through 7442 inclusive.
7444 through 7452 inclusive.
7454 through 7458 inclusive.
7460 through 7497 inclusive.
7499 through 7504 inclusive.

(g) Replacement accomplished before April 4, 2003, per Bombardier Alert Service Bulletin A601R-11-077, dated July 12, 2001, is considered acceptable for compliance with the replacement specified in paragraph (f) of this AD.

New Requirements of This AD

Actions and Compliance

(h) Unless already done, within 24 months after the effective date of this AD, replace the existing overwing emergency exit placards with new placards in accordance with the Accomplishment Instructions of Bombardier Service Bulletin 601R-11-088, Revision `A,' dated March 24, 2009.

(i) Replacing the overwing emergency exit placards with new placards before the effective date of this AD in accordance with Bombardier Service Bulletin 601R-11-088, dated June 25, 2008, is considered acceptable for compliance with the corresponding action specified in this AD.

FAA AD Differences

Note 1: This AD differs from the MCAI and/or service information as follows: The MCAI applicability includes certain airplanes. This AD expands the applicability to include serial numbers 7003 and subsequent.

Other FAA AD Provisions

(j) The following provisions also apply to this AD:

(1) Alternative Methods of Compliance (AMOCs): The Manager, New York Aircraft Certification Office, FAA, has the authority to approve AMOCs for this AD, if requested using the procedures found in 14 CFR 39.19. Send information to ATTN: Christopher Alfano, Aerospace Engineer, Airframe and Mechanical Systems Branch, ANE-171, FAA, New York Aircraft Certification Office, 1600 Stewart Avenue, Suite 410, Westbury, New York 11590; telephone (516) 228-7340; fax (516) 794-5531. Before using any approved AMOC on any airplane to which the AMOC applies, notify your principal maintenance inspector (PMI) or principal avionics inspector (PAI), as appropriate, or lacking a principal inspector, your local Flight Standards District Office. The AMOC approval letter must specifically reference this AD. AMOCs approved previously in accordance with AD 2003-04-21, Amendment 39-13070, are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(k) Refer to MCAI Canadian Airworthiness Directive CF-2009-02, dated January 19, 2009; Bombardier Alert Service Bulletin A601R-11-077, Revision A, dated December 11, 2001; and Bombardier Service Bulletin 601R-11-088, Revision `A,' dated March 24, 2009; for related information.

Issued in Renton, Washington, on December 11, 2009.
Ali Bahrami,
Manager, Transport Airplane Directorate, Aircraft Certification Service.

[FR Doc. E9-30419 Filed 12-22-09; 8:45 am]

BILLING CODE 4910-13-P